DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App 2, the United States Department of Agriculture announces a meeting of the National Agricultural Research, Extension, Education, and Economics Advisory Board.

DATES: The National Agricultural Research, Extension, Education, and Economics Advisory Board will meet March 9-11, 2005. All sessions of the meeting are open to the public.

The public may file written comments before or up to two weeks after the meeting with the contact person.

ADDRESSES: The meeting will take place at the Channel Inn Hotel, 650 Water Street, SW., Washington, DC 20024. Written comments from the public may be sent to the Contact Person identified in this notice at: The National Agricultural Research, Extension, Education, and Economics Advisory Board; Research, Education, and Economics Advisory Board Office, Room 344-A, Jamie L. Whitten Building; United States Department of Agriculture, STOP 2255; 1400 Independence Avenue, SW., Washington, DC 20250-2255.

FOR FURTHER INFORMATION CONTACT: Deborah Hanfman, Executive Director, National Agricultural Research, Extension, Education, and Economics Advisory Board; telephone: (202) 720-3684; fax: (202) 720-6199; or e-mail: dhanfman@csrees.usda.gov.

SUPPLEMENTARY INFORMATION: On Wednesday, March 9, 2005, the National Agricultural Research, Extension, Education, and Economics Advisory Board will convene its meeting at 12:30 p.m. with introductory remarks provided by the Chair of the Advisory Board, Under Secretary for Research, Education, and Economics, and the newly appointed U.S. Secretary of Agriculture. An evening reception following the meeting with a guest speaker who will present highlights on “The Future for Food and Nutrition” to include topics such as Nutrigenomics, Metabolomics, Bibliomics, Specialty Crops, Organics, and advances in Nutraceuticals will be held from 6:30 p.m. to 8:30 p.m.

On Thursday, March 10, 2005, from 8 a.m. to 5:30 p.m., a Focus Session, entitled “Food and Nutrition Research, Extension, Education, and Economics: Effectiveness of the Planning and Execution Process” will be held to hear remarks from a variety of distinguished leaders and experts, including USDA officials and/or designated experts. On Friday, March 11, 2005, the Focus Session will reconvene at 8 a.m. to recap highlights of the previous day's Focus Session and to give Advisory Board members an opportunity to discuss Focus Session issues. All meeting sessions are open to the public. A limited block of time will be allocated for public comments. The Advisory Board Meeting will adjourn by 11:30 a.m.

Written comments by attendees or other interested stakeholders will be welcomed for the public record before and up to two weeks following the Board meeting. All statements will become a part of the official record of the National Agricultural Research, Extension, Education, and Economics Advisory Board and will be kept on file for public review in the Research, Extension, Education, and Economics Advisory Board Office.

Due to administrative delays, less than 15 calendar days notice is provided. Facilities for the meeting have been reserved and committee members are prepared to attend. It would, therefore, be contrary to the public interest and to the interest of the committee and the Department, to postpone the meeting in order to allow for a 15 day notice.

Done at Washington, DC, this 24th day of February, 2005.
Joseph J. Jen,
Under Secretary, Research, Education, and Economics.

[FR Doc. 05-4014 Filed 2-25-05; 12:26 pm]

BILLING CODE 3410-22-P